DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces (DAC-IPAD) will take place.

DATES: Day One: Tuesday, February 21, 2023—Open to the Public from 1 p.m. to 4:50 p.m. EST. Day Two: Wednesday, February 22, 2023—Open to the Public from 8:55 a.m. to 3:30 p.m. EST.

ADDRESSES: Renaissance Arlington Capital View, 2800 Potomac Ave., Arlington, VA 22202.

FOR FURTHER INFORMATION CONTACT: Dwight Sullivan, 703-695-1055 (Voice), 703-693-3903 (Facsimile), dwight.h.sullivan.civ@mail.mil (Email). Mailing address is DACIPAD, One Liberty Center, 875 N Randolph Street, Suite 150, Arlington, Virginia 22203. Website: http://dacipad.whs.mil/. The most up-to-date changes to the meeting agenda can be found on the website.

SUPPLEMENTARY INFORMATION: This meeting is being held under the provisions of chapter 10 of title 5 of the United States Code (U.S.C.) (formerly the Federal Advisory Committee Act (FACA) of 1972 (5 U.S.C. App.)), the Government in the Sunshine Act of 1976 (5 U.S.C. 552b, as amended), and 41 CFR 102-3.140 and 102-3.150.

Due to circumstances beyond the control of the Designated Federal Officer (DFO), the Defense Advisory Committee on Investigation, Prosecution, and Defense of Sexual Assault in the Armed Forces was unable to provide public notification required by 41 CFR 102-3.150(a) concerning its February 21-22, 2023 meeting. Accordingly, the Advisory Committee Management Officer for the Department of Defense, pursuant to 41 CFR 102-3.150(b), waives the 15-calendar day notification requirement.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the twenty-sixth public meeting held by the DAC-IPAD. On Day 1, the DAC-IPAD will receive an overview of the National Defense Authorization Act for Fiscal Year 2023 and hear from representatives from the Military Departments and Coast Guard trial defense organizations. The Committee will receive public comment and then receive an update from the Special Projects Subcommittee. On Day 2, the Committee will receive an update on military sentencing, hear from former military judges, and receive updates from the Policy Subcommittee and Case Review Subcommittee. The Committee will close Day 2 with discussions and deliberations on DAC-IPAD's annual report due March 30, 2023, and adjourn the meeting.

Agenda: Day 1, February 21, 2023: 1 p.m.-1:05 p.m. Welcome and Introduction to Public Meeting; 1:05 p.m.-1:50 p.m. Fiscal Year 2023 National Defense Authorization Act Review; 1:50 p.m.-2 p.m. Break; 2 p.m.-3:30 p.m. Trial Defense Organizations; 3:40 p.m.-3:45 p.m. Break; 3:45 p.m.-4 p.m. Public Comment; 4 p.m.-4:05 p.m. Break; 4:05 p.m.-4:50 p.m. Special Projects Subcommittee Update and Annual Report; 4:50 p.m. Public Meeting Adjourned. Day 2, February 22, 2023: 8:55 a.m.-9 a.m. Welcome and Overview of Day; 9 a.m.-9:45 a.m. Military Sentencing Update; 9:45 a.m.-10 a.m. Break; 10 a.m.-11:30 a.m. Former Military Judges; 11:30 a.m.-12:30 p.m. Lunch; 12:30 p.m.-1:15 p.m. Policy Subcommittee Update and Annual Report; 1:15 p.m.-2 p.m. Case Review Subcommittee Update and Annual Report; 2 p.m.-2:15 p.m. Break; 2:15 p.m.-3:15 p.m. 5th Annual Report Deliberations; 3:15 p.m.-3:30 p.m. Meeting Wrap-up/Preview of Next Meeting; 3:30 p.m. Public Meeting Adjourned.

Meeting Accessibility: Pursuant to 41 CFR 102-3.140 and 5 U.S.C. 1009(a)(1), the public or interested organizations may submit written comments to the DAC-IPAD about its mission and topics pertaining to this public meeting. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection. Oral statements from the public will be permitted, though the number and length of such oral statements may be limited based on the time available and the number of such requests. Oral statement requests must be received by the DAC-IPAD at least five (5) business days prior to the meeting date by submitting them via email at whs.pentagon.em.mbx.dacipad@mail.mil. Oral presentations by members of the public will be permitted from 4 p.m.-4:15 p.m. EST on February 21, 2023.

Written Statements: Pursuant to 41 CFR 102-3.140, and 5 U.S.C. 1009(a)(3), interested persons may submit a written statement to the DAC-IPAD. Individuals submitting a statement must submit their statement no later than 5:00 p.m. EST, Monday, February 20, 2023 to Dwight Sullivan, 703-695-1055 (Voice), 703-693-3903 (Facsimile), dwight.h.sullivan.civ@mail.mil (Email). If a statement pertaining to a specific topic being discussed at the planned meeting is not received by Monday, February 20, 2023, prior to the meeting, then it may not be provided to, or considered by, the Committee during the February 21, 2023 meeting. The DFO will review all timely submissions with the DAC-IPAD Chair and ensure such submissions are provided to the members of the DAC-IPAD before the meeting. Any comments received by the DAC-IPAD prior to the stated deadline will be posted on the DAC-IPAD website (http://dacipad.whs.mil/).

Dated: February 10, 2023.
Aaron T. Siegel,
Alternate OSD Federal Register Liaison Officer, Department of Defense.

[FR Doc. 2023-03258 Filed 2-15-23; 8:45 am]

BILLING CODE 5001-06-P